DEPARTMENT OF TRANSPORTATION

Pipeline and Hazardous Materials Safety Administration

Hazardous Materials: Delayed Applications

AGENCY: Office of Hazardous Materials Safety, Pipeline and Hazardous Materials Safety Administration (PHMSA), DOT.

ACTION: List of application delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New Application

M—Modification Request

R—Renewal Request

P—Party To Exemption Request

Issued in Washington, DC, on January 28, 2016.
Don Burger,
Chief, General Approvals and Permits.

Application No. | Applicant | Reason for delay | Estimated date of completion
Modification to Special Permits
16142-M | Nantong CIMC Tank Equipment Co. Ltd., Jiangsu, Province | 4 | 01-20-2016
14808-M | Amtrol-Alfa Metalomecanica, S.A., West Warwick, RI | 4 | 01-31-2016
15972-M | EnTrans International, LLC, Athens, TN | 4 | 02-15-2016
15628-M | Chemours Company FC, LLC., Wilmington, DE | 4 | 01-31-2016
16219-M | Structural Composites Industries (SCI), Pomona, CA | 4 | 02-18-2016
14437-M | Columbiana Boiler Company (CBCo), LLC, Columbiana, OH | 4 | 02-15-2016
New Special Permit Applications
15767-N | Union Pacific Railroad Company, Omaha, NE | 3 | 02-29-2016
16001-N | VALTEK ASSOCIATES, INC., Malvern, PA | 3 | 03-31-2016
16220-N | Americase, Waxahache, TX | 4 | 03-31-2016
16337-N | Volkswagen Group of America (VWGoA), Herndon, VA | 4 | 02-15-2016
16371-N | Volkswagen Group of America (VWGoA), Herndon, VA | 4 | 02-15-2016
16416-N | INOX India Limited, Gujarat, India | 4 | 02-28-2016
16452-N | The Procter & Gamble Company, Cincinnati, OH | 4 | 03-10-2016
16477-N | Hydroid, Inc., Pocasset, MA | 4 | 03-15-2016
16516-N | Exosent Engineering, LLC, College Station, TX | 4 | 02-15-2016
16495-N | TransRail Innovation Inc., Calgary | 4 | 01-31-2016
16524-N | Quantum Fuel Systems Technologies Worldwide, Inc., Lake Forest, CA | 4 | 03-15-2016
16463-N | Salco Products, Lement, IL | 3 | 03-31-2016
16461-N | Coastal Hydrotesting LLC, Baltimore, MD | 4 | 02-10-2016
Party to Special Permits Application
16279-P | AEG Environmental Products & Services, Inc., Westminster, MD | 4 | 01-31-2016
Renewal Special Permits Applications
11860-R | GATX Corporation, Chicago, IL | 4 | 01-31-2016
14694-R | FedEx Express, Memphis, TN | 4 | 01-31-2016

[FR Doc. 2016-05685 Filed 3-15-16; 8:45 am]

BILLING CODE 4910-60-M